DEPARTMENT OF DEFENSE

Office of the Secretary

[Docket ID: DOD-2018-OS-0031]

Proposed Collection; Comment Request

AGENCY: Office of the Under Secretary of Defense for Personnel and Readiness, DoD.

ACTION: Information collection notice.

SUMMARY: In compliance with the Paperwork Reduction Act of 1995, the Office of the Undersecretary for Personnel and Readiness announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by August 6, 2018.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24 Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Office of the Under Secretary of Defense (Personnel and Readiness) (Military Personnel Policy), ATTN: MAJ Kevin Bentz, 1500 Defense Pentagon, Washington, DC 20301-1500 or call (703) 695-5527.

SUPPLEMENTARY INFORMATION:

Title; Associated Form; and OMB Number: Report of Medical History; DD Forms 2807-1 and 2807-2; OMB Control Number 0704-0413.

Needs and Uses: The information collection requirement is necessary per Title 10 U.S.C. Chapter 31: Sections 504 and 505, and Chapter 33, Section 532, which requires applicants to meet accession medical standards prior to enlistment into the Armed Forces, including the Coast Guard. If applicants' medical history reveals a medical condition that does not meet the accession medical standards, they are medically disqualified for military entrance. This form also will be used by all service members not only in their initial medical examination but also for periodic medical examinations.

Affected Public: Individuals or households.

Annual Burden Hours: 128,833 hours.

Number of Respondents: 773,000.

Responses per Respondent: 1.

Annual Responses: 773,000.

Average Burden per Response: 10 minutes.

Frequency: On occasion.

These forms obtain medical information which affects entrance physical examinations, routine in-service physical examinations, separation physical examinations, and other medical examinations as required. The respondents are all applicants for enlistment, induction or commissioning, or service members. The respondents complete the medical history information recorded on the form. Medical professionals complete the remaining sections, and the information collected provides the Armed Services with the medical history of applicants. The DD Forms 2807-1 and 2807-2 are the method of collecting and verifying medical data on applicants applying for entrance, as well as for service members for medical evaluation purposes.

Dated: May 29, 2018.
Shelly E. Finke,
Alternate OSD Federal Register Liaison Officer, Department of Defense.

[FR Doc. 2018-11887 Filed 6-4-18; 8:45 am]

BILLING CODE 5001-06-P